DEPARTMENT OF COMMERCE

Foreign-Trade Zones Board

[B-65-2023]

Foreign-Trade Zone (FTZ) 125; Authorization of Production Activity; Grand Design RV, LLC; (Motor Homes); Middlebury, Indiana

On December 19, 2023, Grand Design RV, LLC submitted a notification of proposed production activity to the FTZ Board for its facility within Subzone 125H in Middlebury, Indiana.

The notification was processed in accordance with the regulations of the FTZ Board (15 CFR part 400), including notice in the Federal Register inviting public comment (88 FR 90164, December 29, 2023). On April 17, 2024, the applicant was notified of the FTZ Board's decision that no further review of the activity is warranted at this time. The production activity described in the notification was authorized, subject to the FTZ Act and the FTZ Board's regulations, including section 400.14.

Dated: April 17, 2024.
Elizabeth Whiteman,
Executive Secretary.

[FR Doc. 2024-08603 Filed 4-22-24; 8:45 am]

BILLING CODE 3510-DS-P